DEPARTMENT OF THE INTERIOR

Bureau of Land Management

[LLOR-936000-L14300000-ET0000; HAG-10-0029; OR-10887]

Notice of Proposed Withdrawal Extension and Opportunity for Public Meeting; Oregon

AGENCY: Bureau of Land Management, Interior.

ACTION: Notice.

SUMMARY: The United States Forest Service has filed an application with the Bureau of Land Management (BLM) that proposes to extend the duration of Public Land Order (PLO) No. 6857 for an additional 20-year term. PLO No. 6857 withdrew approximately 540 acres of National Forest System land from mining in order to protect the scenic and recreational values and the investment of Federal funds at the Squaw Lakes Recreation Area. The withdrawal created by PLO No. 6857 will expire on May 5, 2011, unless extended. This notice also gives an opportunity to comment on the proposed action and to request a public meeting.

DATE: Comments and requests for a public meeting must be received by June 7, 2010.

ADDRESS: Comments and meeting requests should be sent to the Oregon/Washington State Director, BLM, P.O. Box 2965, Portland, Oregon 97208-2965.

FOR FURTHER INFORMATION CONTACT: David Krantz, Rogue River-Siskiyou National Forest, (541) 618-2037, or Charles R. Roy, BLM Oregon/Washington State Office, (503) 808-6189.

SUPPLEMENTARY INFORMATION: The United States Forest Service has filed an application requesting that the Secretary of the Interior extend PLO No. 6857 (56 FR 20551 (1991)), which withdrew certain lands in Jackson County, Oregon from location and entry under the United States mining laws (30 U.S.C. ch. 2) for an additional 20-year term, subject to valid existing rights. The area described contains approximately 540 acres in Jackson County. PLO No. 6857 is incorporated herein by reference.

The purpose of the proposed withdrawal extension is to continue the protection of the scenic and recreational values and the investment of Federal funds at the Squaw Lakes Recreation Area.

The use of a right-of-way, interagency agreement, or cooperative agreement would not provide adequate protection.

The Forest Service would not need to acquire water rights to fulfill the purpose of the requested withdrawal extension.

Records related to the application may be examined by contacting Charles R. Roy at the above address or phone number.

For a period of 90 days from the date of publication of this notice, all persons who wish to submit comments, suggestions, or objections in connection with the proposed withdrawal extension may present their views in writing to the BLM State Director at the address indicated above.

Comments, including names and street addresses of respondents, will be available for public review at the address indicated above during regular business hours.

Individual respondents may request confidentiality. Before including your address, phone number, e-mail address, or other personal identifying information in your comment, be advised that your entire comment—including your personal identifying information—may be made publicly available at any time. While you can ask us in your comment to withhold from public review your personal identifying information, we cannot guarantee that we will be able to do so. If you wish to withhold your name or address from public review or from disclosure under the Freedom of Information Act, you must state this prominently at the beginning of your comments. Such requests will be honored to the extent allowed by law. All submissions from organizations or businesses, and from individuals identifying themselves as representatives or officials of organization or businesses, will be made available for public inspection in their entirety.

Notice is hereby given that an opportunity for a public meeting is afforded in connection with the proposed withdrawal extension. All interested parties who desire a public meeting for the purpose of being heard on the proposed withdrawal extension must submit a written request to the BLM State Director at the address indicated above by June 7, 2010. Upon determination by the authorized officer that a public meeting will be held, a notice of the time and place will be published in the Federal Register and in at least one local newspaper no less than 30 days before the scheduled date of the meeting.

The application will be processed in accordance with the regulations set forth in 43 CFR part 2300.

Authority: 43 CFR 2310.3-1.

Fred O'Ferrall,
Chief, Branch of Land, Mineral, and Energy Resources.

[FR Doc. 2010-4960 Filed 3-8-10; 8:45 am]

BILLING CODE 3410-11-P